DEPARTMENT OF COMMERCE

International Trade Administration

[A-405-803, A-201-834, A-421-811, A-401-808]

Notice of Antidumping Duty Orders: Purified Carboxymethylcellulose from Finland, Mexico, the Netherlands and Sweden

AGENCY: Import Administration, International Trade Administration, Department of Commerce.

SUMMARY: Based on affirmative final determinations by the Department of Commerce (the Department) and the U.S. International Trade Commission (ITC), the Department is issuing antidumping duty orders on purified carboxymethylcellulose (CMC) from Finland, Mexico, the Netherlands and Sweden. On June 30, 2005, the ITC notified the Department of its affirmative determination of injury to a U.S. industry. See letter from the ITC to the Secretary of Commerce, Notification of Final Affirmative Determination of Purified Carboxymethylcellulose from Finland, Mexico, the Netherlands, and Sweden (Investigation Nos. 731-TA-1084-1087 (Final)), dated June 30, 2005. See also Purified Carboxymethylcellulose from Finland, Mexico, the Netherlands, and Sweden, USITC Publication 3787, June 30, 2005.

EFFECTIVE DATE: July 11, 2005.

FOR FURTHER INFORMATION CONTACT: Mark Flessner, Robert James, or Abdelali Elouaradia at (202) 482-6312, (202) 482-1374, or (202) 482-0649, respectively, AD/CVD Operations, Office 7, Import Administration, International Trade Administration, U.S. Department of Commerce, 14th Street and Constitution Avenue, NW, Washington, DC 20230.

SUPPLEMENTARY INFORMATION: The final determinations in these investigations were published on May 17, 2005. See Notice of Final Determination of Sales at Less Than Fair Value: Purified Carboxymethylcellulose From Finland, 70 FR 28279 (May 17, 2005); Notice of Final Determination of Sales at Less Than Fair Value: Purified Carboxymethylcellulose from Mexico, 70 FR 28280 (May 17, 2005); Notice of Final Determination of Sales at Less Than Fair Value: Purified Carboxymethylcellulose from the Netherlands, 70 FR 28275 (May 17, 2005); and Notice of Final Determination of Sales at Less Than Fair Value: Purified Carboxymethylcellulose From Sweden, 70 FR 28278 (May 17, 2005).

Scope of the Orders

The merchandise covered by these orders is all purified carboxymethylcellulose (CMC), sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent. The merchandise subject to this order is classified in the Harmonized Tariff Schedule of the United States at subheading 3912.31.00. This tariff classification is provided for convenience and customs purposes; however, the written description of the scope of the order is dispositive.

Antidumping Duty Orders

On June 30, 2005, in accordance with section 735(d) of the Tariff Act of 1930, as amended (the Act), the ITC notified the Department of its final determination pursuant to section 735(b)(1)(A)(i) of the Act that an industry in the United States is materially injured by reason of less-than-fair-value imports of purified CMC from Finland, Mexico, the Netherlands and Sweden.

Therefore, in accordance with section 736(a)(1) of the Act, the Department will direct U.S. Customs and Border Protection (CBP) to assess, upon further instruction by the Department, antidumping duties equal to the amount by which the normal value of the merchandise exceeds the export price (or the constructed export price) of the merchandise for all relevant entries of purified CMC from Finland, Mexico, the Netherlands and Sweden. These antidumping duties will be assessed on (1) all entries of purified CMC from Finland, Mexico, the Netherlands and Sweden entered, or withdrawn from warehouse, for consumption on or after December 27, 2004, the date on which the Department published its notices of preliminary determinations in the Federal Register¹, and before June 25, 2005, the date on which the Department is required, pursuant to section 733(d) of the Act, to terminate the suspension of liquidation; and (2) on all subject merchandise entered, or withdrawn from warehouse, for consumption on or after the date of publication of the ITC's notice of final determination in the Federal Register. Entries of purified CMC from Finland, Mexico, the Netherlands and Sweden made between June 25, 2005, and the day preceding the date of publication of the ITC's notice of final determination in the Federal Register are not liable for the assessment of antidumping duties.

¹ See Notice of Preliminary Determination of Sales at Less Than Fair Value and Postponement of Final Determination: Purified Carboxymethylcellulose From Finland, 69 FR 77216 (December 27, 2004); Notice of Preliminary Determination of Sales at Less Than Fair Value and Postponement of Final Determination: Purified Carboxymethylcellulose From Mexico, 69 FR 77201 (December 27, 2004); Notice of Preliminary Determination of Sales at Less Than Fair Value and Postponement of Final Determination: Purified Carboxymethylcellulose From the Netherlands, 69 FR 77205 (December 27, 2004); and Notice of Preliminary Determination of Sales at Less Than Fair Value and Postponement of Final Determination: Purified Carboxymethylcellulose From Sweden, 69 FR 77213, (December 27, 2004).

CBP officers must require, at the same time as importers would normally deposit estimated duties on this merchandise, a cash deposit equal to the estimated weighted-average antidumping duty margins as noted below. The “all others'” rate applies to all manufacturers and exporters of subject merchandise not specifically listed. The weighted-average dumping margins are as follows:

Country | Manufacturer/Exporter | Margin
Finland | Noviant OY | 6.65%
| All Others | 6.65%
Mexico | Quimica Amtex | 12.61%
| All Others | 12.61%
Netherlands | Noviant B.V. | 14.88%
| Akzo Nobel | 13.39%
| All Others | 14.57%
Sweden | Noviant AB | 25.29%
| All Others | 25.29%

Pursuant to section 736(a) of the Act, this notice constitutes the antidumping duty orders with respect to purified CMC from Finland, Mexico, the Netherlands and Sweden. Interested parties may contact the Department's Central Records Unit, Room B-099 of the main Commerce Building, for copies of an updated list of antidumping duty orders currently in effect.

These orders are issued and published in accordance with section 736(a) of the Act and 19 CFR 351.211(b).

Dated: June 30, 2005.
Joseph A. Spetrini,
Acting Assistant Secretary for Import Administration.

[FR Doc. 05-13500 Filed 7-8-05; 8:45 am]

BILLING CODE 3510-DS-S